SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collection listed below will be submitted to OMB within 60 days from the date of this notice. Therefore, comments and recommendations regarding the information collection would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Survey of Low-Income and Disabled Children-0960-NEW. The Survey of Low-Income and Disabled Children (SOLID KIDS) is designed to collect nationally representative data on children and young adults with Supplement Security Income (SSI) experience, including current and previous SSI recipients and SSI applicants. To solicit information, SSA will employ two versions of the SOLID KIDS survey. One survey will be directed at children under age 17. The other, a young adult version, is designed for children who are 17 or older at the time of the survey.

The survey is designed to provide SSA with data on SSI recipients in the following areas:

• Disability and health status;

• Health care utilization;

• Health insurance coverage;

• Out-of-pocket health care expenses;

• Education and training;

• Service utilization and cost;

• Employment income assets;

• Child care, and

• Housing and transportation.

This information will allow SSA to answer policy-relevant questions, for example, the impact of welfare reform on SSI children and young adults, cost of caring for children and young adults with disabilities, transition issues for young adults with disabilities, service utilization patterns, health care access, and unmet health care needs.

The data will be used for internal research and policy evaluation, for briefings, in mandated reports to Congress, in published descriptions in the Social Security Bulletin and elsewhere. External researchers will have access to public use files.

Respondents to the SOLID KIDS survey, children's version, will be parents or guardians of the sample children under age 17 at the time of the survey. The young adult version of the SOLID KIDS survey is designed for children who are 17 or older at the time of the survey. For young adults who are still living in their parents' household, the respondent will be the parent or guardian. For young adults who are living away from their parents—for example, in a group home or facility, or in their own home or apartment—the respondent will be the young adults themselves. In cases where the young adult is living outside of the parent's home and is unable to complete the survey due to disability, a proxy respondent will be selected.

Number of respondents: 9,857

Number of Response: 1

Average burden per response: 58 minutes

Estimated Annual Burden: 9,528

(SSA Address)

Social Security Administration, DCFAM, Attn: Frederick W. Brickenkamp, 1-A-21 Operations Bldg., 6401 Security Blvd., Baltimore, MD 21235.

Dated: June 29, 2000.
Frederick W. Brickenkamp,
Reports Clearance Officer, Social Security Administration.

[FR Doc. 00-17037 Filed 7-5-00; 8:45 am]

BILLING CODE 4190-29-P